DEPARTMENT OF TRANSPORTATION

Office of the Secretary

14 CFR Chs. I-III

23 CFR Chs. I-III

33 CFR Chs. I and IV

46 CFR Chs. I-III

48 CFR Ch. 12

49 CFR Subtitle A, Chs. I-VI, and Chs. X-XII

[DOT-OST-1999-5129]

Department Regulatory and Deregulatory Agenda; Semiannual Summary

AGENCY: Office of the Secretary, Department of Transportation (DOT).

ACTION: Unified Agenda of Federal Regulatory and Deregulatory Actions (Regulatory Agenda).

SUMMARY: The Regulatory Agenda is a semiannual summary of all current and projected rulemakings, reviews of existing regulations, and completed actions of the Department of Transportation. The Agenda provides the public information about the Department of Transportation's planned regulatory activity for the next 12 months. This information enables the public to participate in DOT's regulatory process. The public is encouraged to submit comments on any aspect of this Agenda.

FOR FURTHER INFORMATION CONTACT: Please direct all general comments and inquiries on the Agenda to Daniel Cohen, Assistant General Counsel for Regulation and Legislation, Office of the General Counsel, Department of Transportation, 1200 New Jersey Avenue SE, Washington, DC 20590; (202) 366-4702.

Please direct all comments and inquiries relative to specific items in the Agenda to the individual listed in the summary of each regulation.

To obtain a copy of a specific regulatory document in the Agenda, you should communicate directly with the contact person listed with the regulation. We note that most such documents, including the Semiannual Regulatory Agenda, are available through the internet at http://www.regulations.gov.

SUPPLEMENTARY INFORMATION:

Purpose

DOT is publishing this regulatory Agenda in the Federal Register to share with interested members of the public DOT's preliminary expectations regarding its future regulatory actions. This should enable the public to be more aware of DOT's regulatory activity and should result in more effective public participation. This publication in the Federal Register does not impose any binding obligation on DOT or any of the offices within DOT about any specific item on the Agenda. Regulatory action, in addition to the items listed, is not precluded.

Public Outreach

When developing regulations and establishing our regulatory priorities, the Department fosters active participation and engagement from members of the public and affected communities. In this section, we detail engagement efforts that have helped to inform our priorities to date, as well as future engagement tools we plan to use. The Department is ensuring that we hear from members of the public who have not typically participated in the regulatory process.

In rulemakings to enhance the transparency of airline ancillary service fees and to improve the ticket refund process, the Office of the Secretary of Transportation (OST) hosted virtual public hearings to hear from the public. OST also engaged with the Aviation Consumer Protection Advisory Committee, which comprises representatives for airlines, airport operators, consumers, and state and local governments, on these rulemakings.

The Federal Motor Carrier Safety Administration (FMCSA) is planning a series of public listening sessions in summer 2024 in a rulemaking to update its methodology for determining whether a motor carrier is not fit to operate commercial motor vehicles. FMCSA also held listening sessions in a separate rulemaking dealing with automated driving system-equipped commercial motor vehicles. In addition, FMCSA has been engaged in activities to advance the voluntary adoption of automatic emergency braking systems (AEB) for heavy vehicles, primarily through the Tech-Celebrate Now (TCN) program. Initiated in September 2019 and completed in February 2022, the first phase of this program encompassed research into advanced driver assistance (ADAS) technology adoption barriers; a national outreach, educational, and awareness campaign; and data collection and analysis. Outreach accomplishments included development of training materials for fleets, drivers, and maintenance personnel related to AEB technology and return-on-investment (ROI) guides; educational videos on ADAS braking, steering, warning, and monitoring technologies; a web-based TCN ADAS-specific ROI calculator; four articles on ADAS technologies; and a program website to host the training materials. Planning is underway for the second phase of the TCN program, which includes an expanded national outreach and education campaign, additional research into the barriers to ADAS adoption by motor carriers, and evaluation of the outreach campaign.

The Federal Transit Administration (FTA) held a virtual listening session to solicit stakeholder comments and suggestions on its bus testing program. In a separate rulemaking, FTA released a recorded webinar which provided an overview of the Rail Transit Roadway Worker Protection Notice of Proposed Rulemaking. In addition, FTA hosted three listening sessions on the Transit Worker Hours of Service and Fatigue Risk Management advance notice of proposed rulemaking (ANPRM). FTA has also presented on the ANPRM at various conferences such as the ThinkTransit Conference in Tucson, Arizona.

The Federal Highway Administration (FHWA) published its Notice of Proposed Amendments to the Manual on Uniform Traffic Control Devices on December 14, 2020. The comment period was set to close on March 15, 2021. But halfway through the comment period, FHWA heard concerns from stakeholders that the scope and complexity of the proposal warranted an extension. In response, FHWA not only extended the comment period by an additional two months, but it also conducted a series of four public webinars that were also recorded and posted on FHWA's website to aid the public comment process. These webinars significantly increased the number and quality of comment submissions to the rulemaking docket.

In a separate rulemaking, dealing with the tribal transportation program—bridge program, FHWA held numerous meetings and consultations with Tribal governments about the rulemaking. FHWA also published requests for information in the following three rulemakings: Update to National Electric Vehicle Infrastructure Standards and Requirements, Application of Buy America to Manufactured Products, Incorporating Safety Into Federal-aid Programs and Projects.

Request for Comments

General

DOT's Agenda is intended primarily for the use of the public. Since its inception, DOT has made modifications and refinements that provide the public with more helpful information, as well as make the Agenda easier to use. We would like the public to make suggestions or comments on how the Agenda could be further improved.

Regulatory Flexibility Act

DOT has long recognized the importance of regularly reviewing its existing regulations to determine whether they need to be revised or revoked. Our Regulatory Policies and Procedures require such reviews. DOT also has responsibilities under section 610 of the Regulatory Flexibility Act, Executive Order 12866, “Regulatory Planning and Review,” and Executive Order 13563, “Improving Regulation and Regulatory Review,” 76 FR 3821 (January 18, 2011) to conduct such reviews. We are committed to continuing our reviews of existing rules and, if it is needed, will initiate rulemaking actions based on these reviews. Generally, each DOT operating administration divides its rules into 10 different groups and plans to analyze one group each year. In each Fall Agenda, each operating administration will publish the results of the analyses it has completed during the previous year. The most recent results appeared in DOT's Regulatory and Deregulatory Fall 2023 Agenda Preamble, which was published in the Federal Register on February 9, 2024. DOT is interested in obtaining information on requirements that have a “significant economic impact on a substantial number of small entities” and, therefore, must be reviewed under the Regulatory Flexibility Act. Suggestions of regulations that should be reviewed should be submitted to DOT, along with an explanation of why they should be reviewed.

Consultation With State, Local, and Tribal Governments

Executive Orders 13132 and 13175 require DOT to develop a process to ensure “meaningful and timely input” by State, local, and Tribal officials in the development of regulatory policies that have federalism or tribal implications. These policies are defined in the Executive orders to include regulations that have “substantial direct effects” on States or Indian Tribes, on the relationship between the Federal Government and them, or on the distribution of power and responsibilities between the Federal Government and various levels of Government or Indian tribes. Therefore, we encourage State and local Governments or Indian Tribes to provide us with information about how DOT's rulemakings impact them.

Subash Iyer,
Acting General Counsel, Department of Transportation.

Office of the Secretary—Completed Actions
Sequence No. | Title | Regulation Identifier No.
159 | Refunding Airline Tickets and Ancillary Services Fees | 2105-AF04

Federal Aviation Administration—Prerule Stage
Sequence No. | Title | Regulation Identifier No.
160 | Aircraft Registration, Airman Certification, and Airman Medical Certificate Fees | 2120-AK37

Federal Aviation Administration—Proposed Rule Stage
Sequence No. | Title | Regulation Identifier No.
161 | Requirements to File Notice of Construction of Meteorological Evaluation Towers and Other Renewable Energy Projects (Section 610 Review) | 2120-AK77

Federal Aviation Administration—Final Rule Stage
Sequence No. | Title | Regulation Identifier No.
162 | Drug and Alcohol Testing of Certificated Repair Station Employees Located Outside of the United States | 2120-AK09

Federal Aviation Administration—Long-Term Actions
Sequence No. | Title | Regulation Identifier No.
163 | Regulation Of Flight Operations Conducted By Alaska Guide Pilots | 2120-AJ78
164 | Applying the Flight, Duty, and Rest Requirements to Ferry Flights that Follow Commuter or On-Demand Operations (FAA Reauthorization) | 2120-AK26
165 | Helicopter Air Ambulance Pilot Training and Operational Requirements (HAA II) (FAA Reauthorization) | 2120-AK57
166 | Registration and Marking Requirements for Small Unmanned Aircraft | 2120-AK82

Federal Motor Carrier Safety Administration—Proposed Rule Stage
Sequence No. | Title | Regulation Identifier No.
167 | Self-Insurance Program Cost Recovery (Section 610 Review) | 2126-AC58

Federal Motor Carrier Safety Administration—Long-Term Actions
Sequence No. | Title | Regulation Identifier No.
168 | Safety Monitoring System and Compliance Initiative for Mexico-Domiciled Motor Carriers Operating in the United States | 2126-AA35

Federal Railroad Administration—Proposed Rule Stage
Sequence No. | Title | Regulation Identifier No.
169 | Positive Train Control Systems (Section 610 Review) | 2130-AC95

Federal Railroad Administration—Completed Actions
Sequence No. | Title | Regulation Identifier No.
170 | Train Crew Size Safety Requirements (Completion of a Section 610 Review) | 2130-AC88

Pipeline and Hazardous Materials Safety Administration—Proposed Rule Stage
Sequence No. | Title | Regulation Identifier No.
171 | Pipeline Safety: Pipeline Operational Status | 2137-AF52
172 | Pipeline Safety: Safety of Gas Distribution Pipelines and Other Pipeline Safety Initiatives | 2137-AF53

Pipeline and Hazardous Materials Safety Administration—Final Rule Stage
Sequence No. | Title | Regulation Identifier No.
173 | Hazardous Materials: FAST Act Requirements for Real-Time Train Consist Information | 2137-AF21
174 | Pipeline Safety: Gas Pipeline Leak Detection and Repair | 2137-AF51

Maritime Administration—Proposed Rule Stage
Sequence No. | Title | Regulation Identifier No.
175 | Cargo Preference—U.S. Flag Vessels Regulatory Update (Section 610 Review) | 2133-AB97

Maritime Administration—Final Rule Stage
Sequence No. | Title | Regulation Identifier No.
176 | Establishing Safe and Secure Merchant Marine Training, Every Mariner Builds A Respectful Culture (EMBARC) (Section 610 Review) | 2133-AB99

DEPARTMENT OF TRANSPORTATION (DOT)

Office of the Secretary (OST)

Completed Actions

159. Refunding Airline Tickets and Ancillary Services Fees [2105-AF04]

Legal Authority: 49 U.S.C. 41712; 49 U.S.C. 40101, 49 U.S.C.41702

Abstract: The Department of Transportation has consistently interpreted 49 U.S.C. 41712, which prohibits U.S. air carriers, foreign air carriers, and ticket agents from engaging in unfair practices in the sale of air transportation, to require carriers and ticket agents to provide requested refunds to passengers when a carrier cancels or significantly changes a flight to, from, or within the United States. This rulemaking would clarify that, under the Department's rule requiring airlines to provide prompt refunds when ticket refunds are due and its rule requiring ticket agents to make refunds promptly when service cannot be performed as contracted, carriers and ticket agents must provide prompt ticket refunds to passengers when a carrier cancels or makes a significant change to a flight. This rulemaking would define cancellation and significant change, including addressing whether new itineraries involving delays of a certain length or additional stops constitute a significant change requiring a refund. This rulemaking would also address protections for consumers who are unable to travel due to government restrictions. In addition, the rulemaking under RIN 2105-AE53 has been merged into this rulemaking. As such, this rulemaking would also require airlines to refund checked baggage fees when they fail to deliver the bags in a timely manner as provided by the FAA Extension, Safety and Security Act of 2016, and require airlines to promptly provide a refund to a passenger of any ancillary fees paid for services that the passenger did not receive as provided by the FAA Reauthorization Act of 2018.

Timetable:

Action | Date | FR Cite
NPRM | 08/22/22 | 87 FR 51550
NPRM Comment Period End | 11/21/22
Final Rule | 04/26/24 | 89 FR 32760
Final Rule Effective | 06/25/24

Regulatory Flexibility Analysis Required: No.

Agency Contact: Blane A. Workie, Assistant General Counsel, Department of Transportation, Office of the Secretary, 1200 New Jersey Avenue SE, Washington, DC 20590, Phone: 202-366-9342, Fax: 202-366-7153, Email: blane.workie@ost.dot.gov.

RIN: 2105-AF04

DEPARTMENT OF TRANSPORTATION (DOT)

Federal Aviation Administration (FAA)

Prerule Stage

160. Aircraft Registration, Airman Certification, and Airman Medical Certificate Fees [2120-AK37]

Legal Authority: 31 U.S.C. 9701; 4 U.S.C. 1830; 49 U.S.C. 106(f); 49 U.S.C. 106(g); 49 U.S.C. 106(l)(6); 49 U.S.C. 40104; 49 U.S.C. 40105; 49 U.S.C. 40109; 49 U.S.C. 40113; 49 U.S.C. 40114; 49 U.S.C. 44101 to 44108; 49 U.S.C. 44110 to 44113; 49 U.S.C. 44701 to 44704; 49 U.S.C. 44707; 49 U.S.C. 44709 to 44711; 49 U.S.C. 44713; 49 U.S.C. 45102; 49 U.S.C. 45103; 49 U.S.C. 45301; 49 U.S.C. 45302; 49 U.S.C. 45305; 49 U.S.C. 46104; 49 U.S.C. 46301; Pub. L. 108-297, 118 Stat. 1095

Abstract: This rulemaking would establish fees for airman certificates, medical certificates, and provision of legal opinions pertaining to aircraft registration or recordation. This rulemaking also would revise existing fees for aircraft registration, recording of security interests in aircraft or aircraft parts, and replacement of an airman certificate. This rulemaking addresses provisions of the FAA Modernization and Reform Act of 2012. This rulemaking is intended to recover the estimated costs of the various services and activities for which fees would be established or revised.

Timetable:

Action | Date | FR Cite
ANPRM | 07/00/24

Regulatory Flexibility Analysis Required: Yes.

Agency Contact: Isra Raza, Department of Transportation, Federal Aviation Administration, 800 Independence Ave. SW, Washington, DC 20591, Phone: 202-267-8994, Email: isra.raza@faa.gov.

RIN: 2120-AK37

DEPARTMENT OF TRANSPORTATION (DOT)

Federal Aviation Administration (FAA)

Proposed Rule Stage

161. Requirements To File Notice of Construction of Meteorological Evaluation Towers and Other Renewable Energy Projects (Section 610 Review) [2120-AK77]

Legal Authority: 49 U.S.C. 40103

Abstract: This rulemaking would add specific requirements for proponents who wish to construct meteorological evaluation towers at a height of 50 feet above ground level (AGL) up to 200 feet AGL to file notice of construction with the FAA. This rule also requires sponsors of wind turbines to provide certain specific data when filing notice of construction with the FAA. This rulemaking is a statutory mandate under section 2110 of the FAA Extension, Safety, and Security Act of 2016 (Pub. L. 114-190).

Timetable:

Action | Date | FR Cite
NPRM | 07/00/24

Regulatory Flexibility Analysis Required: No.

Agency Contact: Juan Yanguas, Department of Transportation, Federal Aviation Administration, 800 Independence Ave NW, Washington, DC 20591, Phone: 202-267-1082, Email: juan.s.yanguas@faa.gov.

RIN: 2120-AK77

DEPARTMENT OF TRANSPORTATION (DOT)

Federal Aviation Administration (FAA)

Final Rule Stage

162. Drug and Alcohol Testing of Certificated Repair Station Employees Located Outside of the United States [2120-AK09]

Legal Authority: 14 CFR; 49 U.S.C. 106(g); 49 U.S.C. 40113; 49 U.S.C. 44701; 49 U.S.C. 44702; 49 U.S.C. 44707; 49 U.S.C. 44709; 49 U.S.C. 44717

Abstract: This rulemaking would require controlled substance testing of some employees working in repair stations located outside the United States. The intended effect is to increase participation by companies outside of the United States in testing of employees who perform safety critical functions and testing standards similar to those used in the repair stations located in the United States. This rulemaking is a statutory mandate under section 308(d) of the FAA Modernization and Reform Act of 2012 (Public Law 112-95).

Timetable:

Action | Date | FR Cite
ANPRM | 03/17/14 | 79 FR 14621
Comment Period Extended | 05/01/14 | 79 FR 24631
ANPRM Comment Period End | 05/16/14
Comment Period End | 07/17/14
NPRM | 12/07/23 | 88 FR 85137
NPRM Comment Period Extended | 01/24/24 | 89 FR 4584
NPRM Comment Period End | 02/05/24
End of Extended Comment Period | 04/05/24
Final Rule | 01/00/25

Regulatory Flexibility Analysis Required: Yes.

Agency Contact: Julia Brady, Program Analyst, Program Policy Branch, Department of Transportation, Federal Aviation Administration, 800 Independence Ave SW, Washington, DC 20591, Phone: 202-267-8083, Email: julia.brady@faa.gov.

RIN: 2120-AK09

DEPARTMENT OF TRANSPORTATION (DOT)

Federal Aviation Administration (FAA)

Long-Term Actions

163. Regulation of Flight Operations Conducted by Alaska Guide Pilots [2120-AJ78]

Legal Authority: 49 U.S.C. 106(g); 49 U.S.C. 1153; 49 U.S.C. 1155; 49 U.S.C. 40101 to 40103; 49 U.S.C. 40113; 49 U.S.C. 40120; 49 U.S.C. 44101; 49 U.S.C. 44105 to 44016; 49 U.S.C. 44111; 49 U.S.C. 44701 to 44717; 49 U.S.C. 44722; 49 U.S.C. 44901; 49 U.S.C. 44903 to 44904; 49 U.S.C. 44906; 49 U.S.C. 44912; 49 U.S.C. 44914; 49 U.S.C. 44936; 49 U.S.C. 44938; 49 U.S.C. 46103; 49 U.S.C. 46105; 49 U.S.C. 46306; 49 U.S.C. 46315 to 46316; 49 U.S.C. 46504; 49 U.S.C. 46506 to 46507; 49 U.S.C. 47122; 49 U.S.C. 47508; 49 U.S.C. 47528 to 47531; Articles 12 and 29 of 61 Statue 1180; P.L. 106-181, Sec. 732

Abstract: The rulemaking would establish regulations concerning Alaska guide pilot operations. The rulemaking would implement Congressional legislation and establish additional safety requirements for the conduct of these operations. The intended effect of this rulemaking is to enhance the level of safety for persons and property transported in Alaska guide pilot operations. In addition, the rulemaking would add a general provision applicable to pilots operating under the general operating and flight rules concerning falsification, reproduction, and alteration of applications, logbooks, reports, or records. This rulemaking is a statutory mandate under section 732 of the Wendell H. Ford Aviation Investment and Reform Act for the 21st Century, (Pub. L. 106-181).

Timetable:

Action | Date | FR Cite
Next Action Undetermined | To Be Determined

Regulatory Flexibility Analysis Required: Yes

Agency Contact: Jeff Smith, Department of Transportation, Federal Aviation Administration, 800 Independence Avenue SW, Washington, DC 20785, Phone: 202 365-3617, Email: jeffrey.smith@faa.gov.

RIN: 2120-AJ78

164. Applying the Flight, Duty, and Rest Requirements To Ferry Flights That Follow Commuter or On-Demand Operations (FAA Reauthorization) [2120-AK26]

Legal Authority: 49 U.S.C. 106(f); 49 U.S.C. 106(g); 49 U.S.C. 1153; 49 U.S.C. 40101; 49 U.S.C. 40102; 49 U.S.C. 40103; 49 U.S.C. 40113; 49 U.S.C. 41706; 49 U.S.C. 44105; 49 U.S.C. 44106; 49 U.S.C. 44111; 49 U.S.C. 44701 to 44717; 49 U.S.C. 44722; 49 U.S.C. 44901; 49 U.S.C. 44903; 49 U.S.C. 44904; 49 U.S.C. 44906; 49 U.S.C. 44912; 49 U.S.C. 44914; 49 U.S.C. 44936; 49 U.S.C. 44938; 49 U.S.C. 45101 to 45105; 49 U.S.C. 46103

Abstract: This rulemaking would require a flight crew member who is employed by an air carrier conducting operations under part 135, and who accepts an additional assignment for flying under part 91 from the air carrier or from any other air carrier conducting operations under part 121 or 135, to apply the period of the additional assignment toward any limitation applicable to the flight crew member relating to duty periods or flight times under part 135.

Timetable: Next Action Undetermined.

Regulatory Flexibility Analysis Required: Yes.

Agency Contact: Chester Piolunek, Department of Transportation, Federal Aviation Administration, 800 Independence Avenue SW, Washington, DC 20591, Phone: 202-267-3711, Email: chester.piolunek@faa.gov.

RIN: 2120-AK26

165. Helicopter Air Ambulance Pilot Training and Operational Requirements (HAA II) (FAA Reauthorization) [2120-AK57]

Legal Authority: 49 U.S.C. 106(f); 49 U.S.C. 106(g); 49 U.S.C. 40113; 49 U.S.C. 41706; 49 U.S.C. 44701; 49 U.S.C. 44702; 49 U.S.C. 44705; 49 U.S.C. 44709; 49 U.S.C. 44711 to 44713; 49 U.S.C. 44715 to 44717; 49 U.S.C. 44722; 49 U.S.C. 44730; 49 U.S.C. 45101 to 45105

Abstract: This rulemaking would develop training requirements for crew resource management, flight risk evaluation, and operational control of the pilot in command, as well as to develop standards for the use of flight simulation training devices and line-oriented flight training. Additionally, it would establish requirements for the use of safety equipment for flight crewmembers and flight nurses. These changes will aide in the increase in aviation safety and increase survivability in the event of an accident. Without these changes, the Helicopter Air Ambulance industry may continue to see the unacceptable high rate of aircraft accidents. This rulemaking is a statutory mandate under section 306(e) of the FAA Modernization and Reform Act of 2012 (Pub. L. 112-95).

Timetable:

Action | Date | FR Cite
Next Action Undetermined | To Be Determined

Regulatory Flexibility Analysis Required: Yes.

Agency Contact: Chris Holliday, Department of Transportation, Federal Aviation Administration, 800 Independence Avenue SW, Washington, DC 20591, Phone: 202 267-4552, Email: chris.holliday@faa.gov.

RIN: 2120-AK57

166. Registration and Marking Requirements for Small Unmanned Aircraft [2120-AK82]

Legal Authority: 49 U.S.C. 106(f), 49 U.S.C. 41703, 44101-44106, 44110-44113, and 44701

Abstract: This rulemaking would provide an alternative, streamlined and simple, web-based aircraft registration process for the registration of small unmanned aircraft, including small unmanned aircraft operated exclusively for limited recreational operations, to facilitate compliance with the statutory requirement that all aircraft register prior to operation. It would also provide a simpler method for marking small unmanned aircraft that is more appropriate for these aircraft. This action responds to public comments received regarding the proposed registration process in the Operation and Certification of Small Unmanned Aircraft notice of proposed rulemaking, the request for information regarding unmanned aircraft system registration, and the recommendations from the Unmanned Aircraft System Registration Task Force.

Timetable:

Action | Date | FR Cite
Interim Final Rule | 12/16/15 | 80 FR 78593
Interim Final Rule Effective | 12/21/15
OMB Approval of Information Collection | 12/21/15 | 80 FR 79255
Interim Final Rule Comment Period End | 01/15/16
Final Rule | 08/00/25

Regulatory Flexibility Analysis Required: Yes.

Agency Contact: Bonnie Lefko, Department of Transportation, Federal Aviation Administration, 6500 South MacArthur Boulevard, Room 118, Registry Building 26, Oklahoma City, OK 73169, Phone: 866 762-9434, Email: bonnie.lefko@faa.gov.

RIN: 2120-AK82

BILLING CODE 4910-13-P

DEPARTMENT OF TRANSPORTATION (DOT)

Federal Motor Carrier Safety Administration (FMCSA)

Proposed Rule Stage

167. Self-Insurance Program Cost Recovery (Section 610 Review) [2126-AC58]

Legal Authority: 31 U.S.C. 9701 and 49 U.S.C. 13906(d); 49 U.S.C. 13908(d)

Abstract: FMCSA will propose to amend fees collected for the processing of new self-insurance applications and add new fees for ongoing monitoring of carrier compliance with the self-insurance program requirements. Application fees will be directed to FMCSA's Licensing and Insurance (L&I) Account while monitoring fees must be sent to the Treasury. This rulemaking will amend 49 CFR 360.3T/360.3 to ensure that the limited number of primarily large motor carriers that benefit from the program bear a proportionate cost of participating in the program. FMCSA may also need to amend 49 CFR 360.5T/360.5 to reflect any specific updates to the user fee methodology that are required by this rulemaking.

Timetable:

Action | Date | FR Cite
NPRM | 06/00/25

Regulatory Flexibility Analysis Required: No.

Agency Contact: Kenneth Riddle, Office Director, Department of Transportation, Federal Motor Carrier Safety Administration, 1200 New Jersey Avenue SE, W65-308, Washington, DC 20590, Phone: 202 366-9616, Email: kenneth.riddle@dot.gov.

RIN: 2126-AC58

DEPARTMENT OF TRANSPORTATION (DOT)

Federal Motor Carrier Safety Administration (FMCSA)

Long-Term Actions

168. Safety Monitoring System and Compliance Initiative for Mexico-Domiciled Motor Carriers Operating in the United States [2126-AA35]

Legal Authority: Pub. L. 107-87, sec. 350; 49 U.S.C. 113; 49 U.S.C. 31136; 49 U.S.C. 31144; 49 U.S.C. 31502; 49 U.S.C. 504; 49 U.S.C. 5113; 49 U.S.C. 521(b)(5)(A)

Abstract: This rule would implement a safety monitoring system and compliance initiative designed to evaluate the continuing safety fitness of all Mexico-domiciled carriers within 18 months after receiving a provisional Certificate of Registration or provisional authority to operate in the United States. It also would establish suspension and revocation procedures for provisional Certificates of Registration and operating authority, and incorporate criteria to be used by FMCSA in evaluating whether Mexico-domiciled carriers exercise basic safety management controls. The interim rule included requirements that were not proposed in the NPRM but which are necessary to comply with the FY-2002 DOT Appropriations Act. On January 16, 2003, the Ninth Circuit Court of Appeals remanded this rule, along with two other NAFTA-related rules, to the agency, requiring a full environmental impact statement and an analysis required by the Clean Air Act. On June 7, 2004, the Supreme Court reversed the Ninth Circuit and remanded the case, holding that FMCSA is not required to prepare the environmental documents. FMCSA originally planned to publish a final rule by November 28, 2003.

Timetable:

Action | Date | FR Cite
NPRM | 05/03/01 | 66 FR 22415
NPRM Comment Period End | 07/02/01
Interim Final Rule | 03/19/02 | 67 FR 12758
Interim Final Rule Comment Period End | 04/18/02
Interim Final Rule Effective | 05/03/02
Notice of Intent to Prepare an EIS | 08/26/03 | 68 FR 51322
EIS Public Scoping Meetings | 10/08/03 | 68 FR 58162
Next Action Undetermined

Regulatory Flexibility Analysis Required: Yes.

Agency Contact: Crystal Williams, Department of Transportation, Federal Motor Carrier Safety Administration, 1200 New Jersey Avenue SE, Washington, DC 20590, Phone: 202 366-0596, Email: crystal.williams@dot.gov.

RIN: 2126-AA35

BILLING CODE 4910-EX-P

DEPARTMENT OF TRANSPORTATION (DOT)

Federal Railroad Administration (FRA)

Proposed Rule Stage

169. Positive Train Control Systems (Section 610 Review) [2130-AC95]

Legal Authority: 49 U.S.C. 20103; 49 U.S.C. 20157

Abstract: This rulemaking will amend FRA's PTC regulations—Title 49 Code of Federal Regulations (CFR) part 236, subpart I—to accomplish two objectives: (1) improve FRA's oversight of the performance of PTC technology by clarifying and expanding certain reporting requirements, and (2) provide a clear framework under which railroads may safely operate without PTC technology, subject to operating restrictions and other requirements, in certain necessary situations. FRA has found that its existing PTC regulations do not provide sufficient flexibility to railroads to continue operating following initialization failures or in cases where a PTC system needs to be temporarily disabled during repair, maintenance, infrastructure upgrades, or capital projects. Previously, FRA's regulations provided railroads with flexibility that expired on December 31, 2022, and this rulemaking will reintroduce a certain flexibility regarding initialization failures, establish additional parameters and operating restrictions under which railroads may continue to operate safely, and codify an existing process for FRA's approval of temporary PTC system outages related to repair, maintenance, infrastructure upgrades, and capital projects. In addition, this rulemaking will create a new exception to permit non-revenue passenger trains to operate to yards or maintenance facilities, without being governed by PTC technology, under certain conditions.

Timetable:

Action | Date | FR Cite
NPRM | 08/00/24

Regulatory Flexibility Analysis Required: No.

Agency Contact: Amanda Maizel, Attorney Adviser, Department of Transportation, Federal Railroad Administration, 1200 New Jersey Avenue SE, Washington, DC 20590, Phone: 202 308-3753, Email: amanda.maizel@dot.gov.

RIN: 2130-AC95

DEPARTMENT OF TRANSPORTATION (DOT)

Federal Railroad Administration (FRA)

Completed Actions

170. Train Crew Size Safety Requirements (Completion of a Section 610 Review) [2130-AC88]

Legal Authority: 49 CFR 1.89(a); 49 U.S.C. 20103

Abstract: This rulemaking would address the potential safety impact of one-person train operations, including appropriate measures to mitigate an accident's impact and severity, and the patchwork of State laws concerning minimum crew staffing requirements. This rulemaking would address the issue of minimum requirements for the size of train crews, depending on the type of operations.

Timetable:

Action | Date | FR Cite
NPRM | 07/28/22 | 87 FR 45564
NPRM Comment Period End | 09/26/22
Final Rule | 04/09/24 | 89 FR 25052
Final Action Effective | 06/10/24

Regulatory Flexibility Analysis Required: Yes.

Agency Contact: Amanda Maizel, Attorney Adviser, Department of Transportation, Federal Railroad Administration, 1200 New Jersey Avenue SE, Washington, DC 20590, Phone: 202 308-3753, Email: amanda.maizel@dot.gov.

RIN: 2130-AC88

BILLING CODE 4910-06-P

DEPARTMENT OF TRANSPORTATION (DOT)

Pipeline and Hazardous Materials Safety Administration (PHMSA)

Proposed Rule Stage

171. Pipeline Safety: Pipeline Operational Status [2137-AF52]

Legal Authority: 49 U.S.C. 60101 et seq.

Abstract: This rulemaking would amend the pipeline safety regulations to define an idled operational status for natural gas and hazardous liquid pipelines that are temporarily removed from service, set operations and maintenance requirements for idled pipelines, and establish inspection requirements for idled pipelines that are returned to service. The proposed rule is necessary to respond to a mandate from the Protecting our Infrastructure of Pipelines and Enhancing Safety Act of 2020.

Timetable:

Action | Date | FR Cite
NPRM | 12/00/24

Regulatory Flexibility Analysis Required: Yes.

Agency Contact: Anna Setzer, Transportation Specialist, Department of Transportation, Pipeline and Hazardous Materials Safety Administration, 1200 New Jersey Avenue SE, Washington, DC 20590, Phone: 202-366-4098, Email: anna.setzer@dot.gov.

RIN: 2137-AF52

172. Pipeline Safety: Safety of Gas Distribution Pipelines and Other Pipeline Safety Initiatives [2137-AF53]

Legal Authority: 49 U.S.C. 60101 et seq.

Abstract: This rulemaking would amend the pipeline safety regulations to enhance the safety requirements for gas distribution pipelines. The proposed rule is necessary to respond to several mandates from Title II of the Protecting our Infrastructure of Pipelines and Enhancing Safety Act of 2020 (PIPES Act of 2020).

Timetable:

Action | Date | FR Cite
NPRM | 09/07/23 | 88 FR 61746
NPRM Comment Period End | 11/06/23
Analyzing Comments | 04/00/25

Regulatory Flexibility Analysis Required: Yes.

Agency Contact: Robert Jagger, Technical Writer, Department of Transportation, Pipeline and Hazardous Materials Safety Administration, 1200 New Jersey Avenue SE, Washington, DC 20590, Phone: 202 366-4361, Email: robert.jagger@dot.gov.

RIN: 2137-AF53

DEPARTMENT OF TRANSPORTATION (DOT)

Pipeline and Hazardous Materials Safety Administration (PHMSA)

Final Rule Stage

173. Hazardous Materials: FAST Act Requirements for Real-Time Train Consist Information [2137-AF21]

Legal Authority: 49 U.S.C. 5101 et seq.

Abstract: This rulemaking action responds to the Fixing America's Surface Transportation (FAST) Act of 2015, which directs the Secretary of Transportation to require railroads that transport hazardous materials to generate accurate, real-time, and electronic train consist information. The Infrastructure Investment and Jobs Act of 2021 amended Section 7302 of the FAST Act to remove the provision requiring railroads to provide electronic train consist information to fusion centers and instead require the electronic train consist information be provided to emergency response officials responding to or investigating an incident involving the transportation of hazardous materials by rail.

Timetable:

Action | Date | FR Cite
ANPRM | 01/19/17 | 82 FR 6451
ANPRM Comment Period End | 04/19/17
NPRM | 06/27/23 | 88 FR 41541
NPRM Comment Period End | 08/28/23
Final Rule | 07/00/24

Regulatory Flexibility Analysis Required: Yes.

Agency Contact: Eamonn Patrick, Transportation Specialist, Department of Transportation, Pipeline and Hazardous Materials Safety Administration, 1200 New Jersey Avenue SW, Washington, DC 20590, Phone: 202 366-8553, Email: eamonn.patrick@dot.gov.

RIN: 2137-AF21

174. Pipeline Safety: Gas Pipeline Leak Detection and Repair [2137-AF51]

Legal Authority: 49 U.S.C. 60101 et seq.

Abstract: This rulemaking would amend the pipeline safety regulations to enhance requirements for detecting and repairing leaks on new and existing natural gas distribution, gas transmission, and gas gathering pipelines. The proposed rule is necessary to respond to a mandate from Section 113 of the Protecting our Infrastructure of Pipelines and Enhancing Safety Act of 2020.

Timetable:

Action | Date | FR Cite
NPRM | 05/18/23 | 88 FR 31890
NPRM Comment Period End | 07/17/23
Final Rule | 01/00/25

Regulatory Flexibility Analysis Required: Yes.

Agency Contact: Sayler Palabrica, Department of Transportation, Pipeline and Hazardous Materials Safety Administration, 1200 New Jersey Avenue SE, District of Columbia, DC 20590, Phone: 202-366-0559, Email: sayler.palabrica@dot.gov.

RIN: 2137-AF51

BILLING CODE 4910-60-P

DEPARTMENT OF TRANSPORTATION (DOT)

Maritime Administration (MARAD)

Proposed Rule Stage

175. Cargo Preference—U.S. Flag Vessels Regulatory Update (Section 610 Review) [2133-AB97]

Legal Authority: FY23 NDAA, Pub. L. 117-263, 46 U.S.C. 55305.

Abstract: The purpose of this rulemaking is to respond to a statutory directive in section 3502 of the National Defense Authorization Act for Fiscal Year 2023 (FY23 NDAA) requiring MARAD to issue a final rule to implement and enforce the cargo preference requirements in 46 U.S.C. 55305(d).

Timetable:

Action | Date | FR Cite
NPRM | 06/00/25

Regulatory Flexibility Analysis Required: No.

Agency Contact: Mitch Hudson, Senior Attorney, Department of Transportation, Maritime Administration, 1200 New Jersey Avenue SE, Washington, DC 20590, Phone: 202 366-9373, Email: mitch.hudson@dot.gov.

RIN: 2133-AB97

DEPARTMENT OF TRANSPORTATION (DOT)

Maritime Administration (MARAD)

Final Rule Stage

176. Establishing Safe and Secure Merchant Marine Training, Every Mariner Builds a Respectful Culture (EMBARC) (Section 610 Review) [2133-AB99]

Legal Authority: 46 U.S.C. 50101, 46 U.S.C. 51103, 46 U.S.C. 51322, 46 U.S.C. 57100, 49 CFR 1.93

Abstract: The purpose of this rule is to provide for a safe and secure work environment for U.S. Merchant Marine Academy and State Maritime Academy cadets assigned to a vessel for training or educational purposes and to provide for the operation of a safe and efficient United States Merchant Marine through the prevention of, and response to prohibited behavior such as assault, rape, sexual assault, relationship violence, stalking, harassment of any kind, including gender-based and sexual harassment, retaliation, and discrimination.

Timetable:

Action | Date | FR Cite
Interim Final Rule | 10/00/24

Regulatory Flexibility Analysis Required: No.

Agency Contact: Mitch Hudson, Senior Attorney, Department of Transportation, Maritime Administration, 1200 New Jersey Avenue SE, Washington, DC 20590, Phone: 202 366-9373, Email: mitch.hudson@dot.gov.

RIN: 2133-AB99

[FR Doc. 2024-16457 Filed 8-15-24; 8:45 am]

BILLING CODE 4910-81-P